DEPARTMENT OF TRANSPORTATION

Coast Guard

[USCG-1998-3553]

Marine Transportation System: Waterways, Ports, and Their Intermodal Conntections

AGENCY: Coast Guard, DOT.

ACTION: Notice of availability and request for public comments.

SUMMARY: The Coast Guard announces the availability of summaries from the seven Regional Dialog Sessions sponsored by the Interagency Committee for Marine Transportation System. These summaries report on progress in addressing the Marine Transportation System Report recommendations and coordinating Marine Transportation System issues at the regional level.

DATES: Comments and related material must reach the Docket Management Facility on or before November 30, 2000.

ADDRESSES: To make sure your comments and related material are not entered more than once in the docket, please submit them by only one of the following means:

(1) By mail to the Docket Management Facility, (USCG-1998-3553), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become part of this docket and will be available for inspection or copying at room PL-401 on the Plaza level of the Nassif Building at the same address between 9 a.m. and 5 p.m., Monday through Friday, except Federal holidays. You may also find this docket on the Internet at http://dms.dot.gov.

FOR FURTHER INFORMATION CONTACT: For questions on this notice, or the RDS's, call LCDR Greg Case, Coast Guard, telephone 202-267-0386. For questions on viewing or submitting material to the docket, call Dorothy Beard, Chief, Dockets, Department of Transportation, telephone 202-366-9329.

SUPPLEMENTARY INFORMATION:

Request for Comments

We encourage you to submit comments and related material on the Regional Dialog Sessions or the Marine Transportation System. If you do so, please include your name and address, identify the docket number for this notice (USCG-1998-3553) and give the reasons for each comment. You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they reached the Facility, please enclose a stamped, self-addressed postcard or envelope. We will consider all comments and material received during the comment period.

Background

The Marine Transportation System (MTS) includes waterways, ports, and their intermodal connections with highways, railways, and pipelines. The MTS links the United States to overseas markets and is important to national security interests. Excluding Mexico and Canada, over 95% of the U.S. foreign trade by tonnage are shipped by sea, and 14% of U.S. inter-city freight is transported by water. Forecasts show that U.S. foreign ocean-borne trade is expected to more than double by the year 2020; and commuter ferries, recreational boating, and other recreational uses of the waterway are expected to increase, placing even greater demands on the marine transportation system. In turn, an expanding marine transportation system will pose greater challenges for protecting and enhancing the environment

Many federal agencies, state and local governments, port authorities, and the private sector share responsibility for the marine transportation system. Recognizing that the economic, safety, and environmental implications of aging infrastructure, inadequate channels, and congested intermodal connections will become more critical as marine traffic volume increases, the Secretary of Transportation began a multi-agency MTS initiative in March 1998.

The MTS initiative began in the spring of 1998 with seven Regional Listening Sessions to gather stakeholder input on the current state and future needs of the MTS. The input received at the listening sessions became the basis for a National MTS Conference in November of 1998. After the conference, the Secretary established the Congressionally mandated MTS Task Force to conduct an assessment of the U.S. Marine Transportation System. The September 1999 MTS Task Force Report to Congress, An Assessment of the Marine Transportation System, recommended action in seven strategic areas. Regional coordination and implementation of the recommendations contained in Chapter 6 of the Report to Congress was the focus of the Regional Dialog Sessions. The docket (USCG-1998-3553) contains the MTS Report to Congress, summaries of the Regional Listening Sessions, the Proceedings of the National MTS Conference, and the Regional Dialog Sessions Summaries. You may access it electronically on the Internet at http://dms.dot.gov.

Next Steps

Comments received during the comment period will be considered by an Interagency Committee for the Marine Transportation System and Marine Transportation System National Advisory Council to assess the adequacy of the marine transportation system. They will continue examining the critical marine transportation issues, and recommending strategies and plans of action to ensure safety, advance national interest, including economic competitiveness and national security in the marine transportation arena.

Dated: October 4, 2000.
J.P. High,
Director of Waterways Management.

[FR Doc. 00-26078 Filed 10-10-00; 8:45 am]

BILLING CODE 4910-15-P